DEPARTMENT OF STATE

[Public Notice: 12853]

Notice of 2024 Sanctions Actions

SUMMARY: The Department of State is publishing the name of one or more persons that were placed on the Department of Treasury's List of Specially Designated Nationals and Blocked Persons (SDN List) administered by the Office of Foreign Assets Control (OFAC) in 2024 based on the Department of State's determination, in consultation with other departments, as appropriate, that one or more applicable legal criteria of the Executive Order (E.O.) regarding blocking property of weapons of mass destruction proliferators and their supporters and the E.O. regarding blocking property of certain persons with respect to the conventional arms activities of Iran were satisfied. All property and interests in property subject to U.S. jurisdiction of these persons are blocked, and U.S. persons are generally prohibited from engaging in transactions with them.

DATES: These actions were issued on July 12, 2024, September 10, 2024, and December 18, 2024, respectively. See SUPPLEMENTARY INFORMATION section for applicable date(s) in 2024.

FOR FURTHER INFORMATION CONTACT: Office of Counterproliferation Initiatives, Bureau of Arms Control and Nonproliferation, Department of State, Washington, DC 20520, tel.: (202) 647-5193; email: ACN_Sanctions@state.gov.

SUPPLEMENTARY INFORMATION:

Electronic Availability

The SDN List and additional information concerning sanctions programs are available on OFAC's website (https://www.treasury.gov/ofac). The announcements for these actions are available on the Department of State's website (https://2021-2025.state.gov/united-states-imposes-sanctions-targeting-irans-chemical-weapons-research-and-development/; https://2021-2025.state.gov/new-iran-and-russia-sanctions-designations/; https://2021-2025.state.gov/u-s-sanctions-on-two-iran-based-entities-pursuant-to-e-o-13949-and-one-iranian-individual-pursuant-to-e-o-13382/).

Notice of Department of State Actions

On July 12, 2024, the Department of State, in consultation with other departments, as appropriate, determined that the property and interests in property subject to U.S. jurisdiction of the following persons are blocked under the relevant sanctions authority listed below.

Entities

1. HAKIMAN SHARGH RESEARCH COMPANY, No. 0, Crystal Building, Ground Floor, Khomeini Shahr Ring Street, Azadegan Blvd., Central Sector, Khomeini Shahr City, Isfahan Province 8415683111, Iran; Additional Sanctions Information—Subject to Secondary Sanctions; Organization Established Date 11 May 1999; National ID No. 10260357995 (Iran); Registration Number 2649 (Iran) [NPWMD] [IFSR].

Designated pursuant to section 1(a)(ii) of Executive Order 13382 of June 28, 2005, “Blocking Property of Certain Persons with Respect to the Conventional Arms Activities of Iran,” (E.O. 13382) for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

Notice of Department of State Actions

On September 10, 2024, the Department of State, in consultation with other departments, as appropriate, determined that the property and interests in property subject to U.S. jurisdiction of the following persons are blocked under the relevant sanctions authority listed below.

Entities

1. IRAN AIR (a.k.a. HAVAPEYMAYI MELLI IRAN; a.k.a. IRAN AIR PJSC; a.k.a. IRANAIR; a.k.a. IRANAIR CARGO; a.k.a. THE AIRLINE OF THE ISLAMIC REPUBLIC OF IRAN; a.k.a. “HOMA”), Iran Air Building, Mehrabad Airport, Tehran, Iran; Postal Box 13185-775, Tehran, Iran; Central Airlines Department of the Islamic Republic of Iran, Tehran Karaj Special Road, Beginning of Mehrabad International Airport, Tehran, Iran; website www.iranair.com; alt. website www.iranair.co.ir; Additional Sanctions Information—Subject to Secondary Sanctions; Secondary sanctions risk: See Section 11 of Executive Order 14024.; National ID No. 10100354259 (Iran); Registration Number 8132 (Iran) [IRAN] [IRAN-CON-ARMS-E.O.] [RUSSIA-EO14024].

Designated pursuant to section 1(a)(i) of Executive Order 13949 of September 21, 2020 “Blocking Property of Certain Persons With Respect to the Conventional Arms Activities of Iran,” (E.O. 13949) for engaging in any activity that materially contributes to the supply, sale, or transfer, directly or indirectly, to or from Iran, or for the use in or benefit of Iran, of arms or related materiel, including spare parts.

Notice of Department of State Actions

On December 18, 2024, the Department of State, in consultation with other departments, as appropriate, determined that the property and interests in property subject to U.S. jurisdiction of the following persons are blocked under the relevant sanctions authority listed below.

Individuals

1. EFTEKHARI, Sayyed Hosein Majid Musavi (a.k.a. IFTIKHARI, Sayyid Husayn Musawi), Iran; DOB 17 Feb 1965; nationality Iran; Additional Sanctions Information—Subject to Secondary Sanctions; Gender Male; National ID No. 0040158721 (Iran) (individual) [NPWMD] [IRGC] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

Entities

1. SAAD SAZEH FARAZ SHARIF (a.k.a. DARIA FANAVAR BORHAN SHARIF; a.k.a. SADID SAZEH PARVAZ SHARIF), Ground Floor, Plate 0, Chogan Street 9, Tehran Karaj Highway, Sahrak Ansar Neighborhood, Tehran, Tehran Province, Iran; Additional Sanctions Information—Subject to Secondary Sanctions; Organization Established Date 2017; National ID No. 14007965448 (Iran); Registration Number 534295 (Iran) [IRAN-CON-ARMS-E.O.].

Designated pursuant to section 1(a)(i) of E.O. 13949 for engaging in any activity that materially contributes to the supply, sale, or transfer, directly or indirectly, to or from Iran, or for the use in or benefit of Iran, of arms or related materiel, including spare parts.

2. CHEKAD SANAT FARAZ ASIA, Afshar Nou Alley, Fadaiyan Islam St., No 841, 1st floor, District 18, Central Sector, Tehran Station Quarter, Tehran, Tehran Province 1851617167, Iran; Additional Sanctions Information—Subject to Secondary Sanctions; Organization Established Date 2013; National ID No. 14009306332 (Iran); Registration Number 561957 (Iran) [IRAN-CON-ARMS-E.O.].

Designated pursuant to section 1(a)(i) of E.O. 13949 for engaging in any activity that materially contributes to the supply, sale, or transfer, directly or indirectly, to or from Iran, or for the use in or benefit of Iran, of arms or related materiel, including spare parts.

Renee P. Sonderman,
Acting Deputy Assistant Secretary, Bureau of Arms Control and Nonproliferation, Department of State.

[FR Doc. 2025-23020 Filed 12-16-25; 8:45 am]

BILLING CODE 4710-27-P